DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section.

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The Specially Designated Nationals and Blocked Persons List (SDN List) and additional information concerning OFAC sanctions programs are available on OFAC's website (https://www.treasury.gov/ofac).

Notice of OFAC Actions

On April 11, 2019, OFAC determined that the property and interests in property subject to U.S. jurisdiction of the following persons are blocked under the relevant sanctions authority listed below.

Individual

1. CHAMS, Kassem (a.k.a. CHAMS, Qassim Muhammed; a.k.a. SHAMS, Kassem Mohammed; a.k.a. SHAMS, Qasim Muhammed), Hermel, Lebanon; Chams Building, 3rd Floor Jalal, Chtaura, Zahle, Lebanon; DOB 20 Mar 1962; POB Lebanon; citizen Lebanon; Gender Male (individual) [SDNTK] (Linked To: CHAMS MONEY LAUNDERING ORGANIZATION; Linked To: CHAMS EXCHANGE COMPANY SAL). Identified as a significant foreign narcotics trafficker pursuant to section 805(b)(1) of the Foreign Narcotics Kingpin Designation Act (“Kingpin Act”), 21 U.S.C. 1901(b)(1).

Entities

1. CHAMS EXCHANGE COMPANY SAL (a.k.a. ALI MOHAMED CHAMS & PARTNER; a.k.a. ALI MOHAMED CHAMS AND PARTNER; a.k.a. CHAMS EXCHANGE), Sahata Choutra, Chtaura, Lebanon; Chams Building, 3rd Floor, Jalal, Chtaura, Zahle, Lebanon [SDNTK]. Designated pursuant to section 805(b)(2) of the Kingpin Act, for materially assisting in, or providing financial or technological support for or to, or providing goods or services in support of, the international narcotics trafficking activities of Kassem CHAMS, a foreign person identified as a significant foreign narcotics trafficker pursuant to the Kingpin Act; also designated pursuant to section 805(b)(3) of the Kingpin Act for being owned, controlled, or directed by, or acting for or on behalf of. Kassem CHAMS, a foreign person identified as a significant foreign narcotics trafficker pursuant to the Kingpin Act.

2. CHAMS MONEY LAUNDERING ORGANIZATION (a.k.a. CHAMS MLO), Lebanon [SDNTK]. Designated pursuant to section 805(b)(3) of the Kingpin Act for being owned, controlled, or directed by, or acting for or on behalf of Kassem CHAMS, a foreign person identified as a significant foreign narcotics trafficker pursuant to the Kingpin Act.

Dated: April 11, 2019.
Andrea M. Gacki,
Director, Office of Foreign Assets Control.

[FR Doc. 2019-07548 Filed 4-15-19; 8:45 am]

BILLING CODE 4810-AL-P